DEPARTMENT OF THE INTERIOR

Bureau of Land Management

[14X L5017AR L51050000.AP0000 LVRCJ14UT040]

Notice of Temporary Closure for Selected Public Lands in Iron County, Utah, During the Operation of the 2014 Southern Nevada Off Road Enthusiasts “SNORE” Off-Highway Vehicle (OHV) Event

AGENCY: Bureau of Land Management, Interior.

ACTION: Notice of temporary closure.

SUMMARY: Notice is hereby given that a temporary closure will be in effect on public lands described in this notice that are administered by the Cedar City Field Office, Bureau of Land Management (BLM). The temporary closure will be for a special event being held on May 30 and 31, 2014.

DATES: This temporary closure will be in effect from 6 a.m., May 30, 2014 to 11:59 p.m., May 31, 2014, Mountain Daylight Time (MDT).

FOR FURTHER INFORMATION CONTACT: Dave Jacobson, Outdoor Recreation Planner, telephone (435) 865-3010 or the BLM Cedar City Field Office, 176 East D.L. Sargent Dr., Cedar City, UT 84721. Persons who use a telecommunications device for the deaf (TDD) may call the Federal Information Relay Service (FIRS) at 1-800-877-8339 to leave a message or question for the above individual. The FIRS is available 24 hours a day, seven days a week. Replies are provided during normal business hours.

SUPPLEMENTARY INFORMATION: This temporary closure affects selected public lands within and adjacent to the Greater Three Peaks Special Recreation Management Area (SRMA) 10 miles northwest of Cedar City in Iron County, Utah. The BLM OHV trailhead and large group campsite will be closed to the public along with portions of the mountain bike trail system. The legal description of the affected public lands is:

Salt Lake Meridian, Utah

T. 34 S., R. 12 W.,

Sec. 23, S1/2NE1/4, S1/2NW1/4, and S1/2;

Ssecs. 26, 27, 28 and 33;

Sec. 34, excluding patented mineral survey;

Sec. 35, excluding patented mineral survey.

T. 35 S., R. 12 W.,

Sec. 2, E1/2, N1/2NE1/4NW1/4, and SW1/4;

Sec. 3, excluding patented mineral surveys;

Sec. 4, N1/2, N1/2SW1/4, N1/2SE1/4, and SW1/4SE1/4;

Sec. 9, E1/2NE1/4, E1/2SE1/4NW1/4NE1/4, SW1/4SE1/4NW1/4NE1/4, E1/2SW1/4NE1/4,E1/2NW1/4SW1/4NE1/4, and SW1/4NW1/4SW1/4NE1/4, excluding patented mineral surveys;

Sec. 10, excluding patented mineral surveys;

Sec. 11;

Sec. 14, NW1/4, N1/2SW1/4, N1/2SW1/4SW1/4, and N1/2SE1/4SW1/4;

Sec. 15;

Sec. 16, E1/2, E1/2NW1/4, NW1/4NW1/4, and SW1/4, excluding patented mineral surveys.

The areas described aggregate 9,098 acres.

The Three Peaks Radio Control Airplane Model Port, mountain bike trailhead, the Lost World Trail, Practice Loop Trail, portions of the Race Course Trail and the equestrian trailhead within the Three Peaks SRMA will be available for public use during the event. The Iron County Recreation and Public Purposes Act Recreation Area will be open to the public as a spectator area for the OHV event.

The temporary closure is necessary to provide for the safety of participants, spectators, permittees and the general public. The closure will also prevent unnecessary environmental degradation and protect natural and cultural resources adjacent to the event site. The BLM will post closure signs at main entry points to the area. This closure order will be posted in the BLM Cedar City Field Office. Maps of the affected area and other documents associated with this closure are available at the BLM Cedar City Field Office at 176 East D.L. Sargent Dr., Cedar City, UT 84721.

Under the authority of Section 303(a) of the Federal Land Policy and Management Act of 1976 (43 U.S.C. 1733(a)), 43 CFR 8360.0-7, and 43 CFR 8364.1, the BLM will enforce the following within the closure area:

Unless otherwise authorized, within the closure area no person shall:

• Camp or engage in camping in any area outside of the designated spectator areas.

• Enter any portion of the racecourse or any wash located within or adjacent to the race course.

• Discharge any firearm or weapon.

• Park, stop, or stand along the racecourse, in designated pit stop areas, or other areas outside of the designated spectator viewing areas.

• Park any vehicle in violation of posted restrictions, or in such a manner as to obstruct or impede normal or emergency traffic movement or the parking of other vehicles, create a safety hazard, or endanger any person, property or feature. Vehicles so parked are subject to citation, removal and impoundment at owner's expense.

• Take, drive, or operate any vehicle through, around or beyond a restrictive sign, barricade, fence or traffic control barrier or device.

Exceptions to Closure

1. Any Federal, state, or local officer or employees in the scope of their official duties.

2. Members of any organized rescue or firefighting force in performance of an official duty.

3. Vehicles owned by the United States, the state of Utah, and Iron County.

4. Any person authorized in writing by the BLM-Utah Cedar City Field Manager.

Effect of Closure

The entire area encompassed by the legal description above is closed to all unauthorized personnel and will be marked clearly as such on the ground prior to and during the event. Access routes leading to the designated racecourse are closed to vehicles and people and will be marked as such. Unless specifically addressed by regulations set forth in 43 CFR, the laws of the state of Utah shall govern the use and operation of vehicles. The authorized event organizer or their representatives, in conjunction with the BLM, will post warning signs, control access to and clearly mark, the race course, spectator areas, common access roads and road crossings during the closure period. Spectator and support vehicles may be driven on open roads only. Spectators may only observe from designated spectator areas. Support vehicles under permit for operation by event participants must follow the race permit stipulations.

Any person who violates the above rule(s) and/or restriction(s) may be tried before a United States Magistrate and fined no more than $1,000, imprisoned for no more than 12 months, or both. Such violations may also be subject to the enhanced fines provided for by 18 U.S.C. 3571.

Authority: 43 CFR 8364.1.

Jenna Whitlock,
Associate State Director.

[FR Doc. 2014-09890 Filed 4-29-14; 8:45 am]

BILLING CODE 4310-DQ-P